DEPARTMENT OF HEALTH AND HUMAN SERVICES

Centers for Disease Control and Prevention

[30Day-18-0978]

Agency Forms Undergoing Paperwork Reduction Act Review

In accordance with the Paperwork Reduction Act of 1995, the Centers for Disease Control and Prevention (CDC) has submitted the information collection request titled Emerging Infections Program (EIP) to the Office of Management and Budget (OMB) for review and approval. CDC previously published a “Proposed Data Collection Submitted for Public Comment and Recommendations” notice on December 21, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Emerging Infections Program (OMB Control Number 0920-0978 Expiration Date 2/28/2019)—Revision—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases.

CDC seeks a three-year OMB approval for this revised information collection project request.

Activities of the EIPs fall into the following general categories: (1) Active surveillance; (2) applied public health epidemiologic and laboratory activities; (3) implementation and evaluation of pilot prevention/intervention projects; and (4) flexible response to public health emergencies. Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease.

The total estimated time burden for the revised collection project is 40,347 hours, an increase of 18,257 hours. The majority of the collection activities remain the same, however, there are multiple proposed revisions including form consolidation, minor revised language and rewording to improve clarity and readability of the data collection forms and the discontinuation of the previously approved Legionellosis Expanded Case Report Form.

CDC seeks to request the use of five new forms: ABCs Severe GAS Infection Supplemental Form; HAIC Multi-site Gram-Negative Bacilli Case Report Form for Carbapenem-resistant Pseudomonas aeruginosa (CR-PA); HAIC Multi-site Gram-Negative Surveillance Initiative—Extended-Spectrum Beta-Lactamase-Producing Enterobacteriaceae (MuGSI-ESBL); HAIC Invasive Methicillin-sensitive Staphylococcus aureus (MSSA); and HAIC Candidemia Case Report Form. These forms will allow the EIP to better detect, identify, and monitor emerging pathogens.

This revision package will enhance the previous submission by improving surveillance through new forms, form consolidation, minor revised language to improve clarity, and the discontinuation of specific previously approved forms. There is no cost to respondents other than their time.

Estimated Annualized Burden Hours
Type of respondents | Form name | Number of respondents | Number of responses per respondent | Average burden per response (in hours)
State Health Department | ABCs Case Report Form | 10 | 809 | 20/60
| ABCs Invasive Pneumococcal Disease in Children Case Report Form | 10 | 22 | 10/60
| ABCs Surveillance for Non-Invasive Pneumococcal Pneumonia (SNiPP) Case Report Form | 10 | 125 | 10/60
| ABCs H.influenzae Neonatal Sepsis Expanded Surveillance Form | 10 | 6 | 10/60
| ABCs Severe GAS Infection Supplemental Form—NEW FORM | 10 | 136 | 20/60
| ABCs Neonatal Infection Expanded Tracking Form | 10 | 37 | 20/60
| FoodNet Campylobacter | 10 | 850 | 21/60
| FoodNet Cryptosporidium | 10 | 130 | 10/60
| FoodNet Cyclospora | 10 | 3 | 10/60
| FoodNet Listeria monocytogenes | 10 | 13 | 20/60
| FoodNet Salmonella | 10 | 827 | 21/60
| FoodNet Shiga toxin producing E. coli | 10 | 190 | 20/60
| FoodNet Shigella | 10 | 290 | 10/60
| FoodNet Vibrio | 10 | 25 | 10/60
| FoodNet Yersinia | 10 | 30 | 10/60
| FoodNet Hemolytic Uremic Syndrome | 10 | 10 | 1
| Influenza Hospitalization Surveillance Network Case Report Form | 10 | 1000 | 25/60
| Influenza Hospitalization Surveillance Project Vaccination Phone Script Consent Form (English) | 10 | 333 | 5/60
| Influenza Hospitalization Surveillance Project Vaccination Phone Script Consent Form (Spanish) | 10 | 333 | 5/60
| Influenza Hospitalization Surveillance Project Provider Vaccination History Fax Form (Children/Adults) | 10 | 333 | 5/60
| HAIC CDI Case Report Form | 10 | 1650 | 30/60
| HAIC Multi-site Gram-Negative Bacilli Case Report Form (MuGSI-CRE/CRAB) | 10 | 500 | 20/60
| HAIC Multi-site Gram-Negative Bacilli Case Report Form for Carbapenem-resistant Pseudomonas aeruginosa(CR-PA)—NEW FORM | 10 | 344 | 45/60
| HAIC Multi-site Gram-Negative Surveillance Initiative—Extended-Spectrum Beta-Lactamase-Producing Enterobacteriaceae (MuGSI-ESBL)—NEW FORM | 10 | 1200 | 20/60
| HAIC Invasive Methicillin-resistant Staphylococcus aureus (MRSA) | 10 | 609 | 20/60
| HAIC Invasive Methicillin-sensitive Staphylococcus aureus (MSSA)—NEW FORM | 10 | 1,035 | 20/60
| HAIC Candidemia Case Report Form—NEW FORM | 9 | 800 | 20/60

Leroy A. Richardson,
Chief, Information Collection Review Office, Office of Scientific Integrity, Office of the Associate Director for Science, Office of the Director, Centers for Disease Control and Prevention.

[FR Doc. 2018-08166 Filed 4-18-18; 8:45 am]

BILLING CODE 4163-18-P